DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Charlotte Southern Railroad

[Docket Number FRA-2000-7929]

The Adrian & Blissfield Rail Road Company of Madison Heights, Michigan has petitioned on behalf of Charlotte Southern Railroad Company (CHS) for a permanent waiver of compliance for one locomotive from the requirements of the Railroad Safety Appliance Standards, 49 CFR Part 231.30, which requires all locomotives used in switching service be equipped with four corner stairway openings and each stairway opening must be equipped with two vertical handholds. The waiver request is for a 65 ton mid-cab locomotive built by General Electric in 1956. The locomotive is equipped with one set of ladder style steps on each side leading to the cab. CHS indicates that the locomotive is used in switching service over 3.22 miles at a speed not to exceed 10 mph. All switching movements are made with the locomotive attached and air brakes cut in.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7929) and must be submitted in triplicate to the Docket Clerk, DOT Central Docket Management Facility, Room PL-401, Washington, D.C., 20590-0001. Communications received within 45 days of the date of this notice will be considered by FRA before final action is taken. Comments received after that date will be considered as far as practicable. All written communications concerning these proceedings are available for examination during regular business hours (9 a.m.-5 p.m.) at DOT Central Docket Management Facility, Room PL-401 (Plaza Level), 400 Seventh Street SW., Washington, DC, 20590. All documents in the public docket are also available for inspection and copying on the Internet at the docket facility's Web site at http://dms.dot.gov.

Issued in Washington, DC. on October 1, 2000.
Grady C. Cothen, Jr.,
Deputy Associate Administrator for Safety Standards and Program Development.

[FR Doc. 00-25627 Filed 10-4-00; 8:45 am]

BILLING CODE 4910-06-P